DEPARTMENT OF COMMERCE

Foreign-Trade Zones Board

[B-01-2020]

Foreign-Trade Zone (FTZ) 84—Houston, Texas, Authorization of Production Activity, Mitsubishi Caterpillar Forklift America, Inc. (Forklift/Work Trucks and Related Subassemblies/Kits), Houston, Texas

On December 20, 2019, Mitsubishi Caterpillar Forklift America, Inc., submitted a notification of proposed production activity to the FTZ Board for its facility within FTZ 84, in Houston, Texas.

The notification was processed in accordance with the regulations of the FTZ Board (15 CFR part 400), including notice in the Federal Register inviting public comment (85 FR 2108, January 14, 2020). On April 20, 2020, the applicant was notified of the FTZ Board's decision that no further review of the proposed activity is warranted at this time. The FTZ Board authorized the production activity described in the notification, subject to the FTZ Act and the Board's regulations, including Section 400.14. Lithium ion batteries must be admitted in privileged foreign status (19 CFR 146.41).

Dated: April 20, 2020.
Andrew McGilvray,
Executive Secretary.

[FR Doc. 2020-08726 Filed 4-23-20; 8:45 am]

BILLING CODE 3510-DS-P